DEPARTMENT OF THE INTERIOR

Fish and Wildlife Service

50 CFR Parts 20 and 21

[FWS-R9-MB-2008-0113; 91200-1231-9BPP-L2]

RIN 1018-AI07

Migratory Bird Hunting and Permits; Regulations for Managing Harvest of Light Goose Populations

AGENCY: Fish and Wildlife Service, Interior.

ACTION: Final rule; correction.

SUMMARY: We, the U.S. Fish and Wildlife Service, published a final rule in the Federal Register on November 5, 2008, that sets forth regulations that authorize measures to increase harvest of certain populations of light geese, revise the regulations for the management of overabundant light goose populations, and modify the conservation order that will increase take of birds from such populations. That final rule contained errors in two amendatory instructions and certain corresponding text of the regulations; one error would incorrectly remove changes made to the regulations at 50 CFR part 20 in a series of final rules we published concerning hunting methods for resident Canada geese and the other mischaracterizes the contents of subpart E of 50 CFR part 21. This document corrects those errors.

DATES: This rule is effective on December 5, 2008.

FOR FURTHER INFORMATION CONTACT: Robert Blohm, Chief, Division of Migratory Bird Management, U.S. Fish and Wildlife Service, 703-358-1714.

SUPPLEMENTARY INFORMATION:

Background

On November 5, 2008, we published in the Federal Register (73 FR 65926) a final rule to authorize measures to increase harvest of certain populations of light geese, revise the regulations for the management of overabundant light goose populations, and modify the conservation order that will increase take of birds from such populations. That final rule contained errors in two amendatory instructions and certain corresponding text of the regulations, as described below. This document corrects those errors.

The first error, which appears within and as a result of amendatory instruction 2, would incorrectly remove changes made to the regulations at 50 CFR part 20 in a series of final rules concerning hunting methods for resident Canada geese (71 FR 45963, August 10, 2006; 72 FR 46403, August 20, 2007; 73 FR 65274, November 3, 2008). As published on November 5, 2008 (73 FR 65926), amendatory instruction 2 would:

• Revise the introductory texts of 50 CFR 20.21(b) and (g), which we did not intend to revise; and

• Remove 50 CFR 20.21(b)(1) and (b)(2), and 50 CFR 20.21(g)(1) and (g)(2), which we did not intend to remove.

The introductory texts of 50 CFR 20.21(b) and (g) provide the initial, necessary structure for the subparagraphs in those paragraphs. Section 20.21(b)(1) and (g)(1) concern light goose hunting methods and are necessary subparagraphs to maintain a clear and understandable structure for § 20.21(b) and (g). Section 20.21(b)(2) and (g)(2) concern Canada goose hunting methods and were put into place by a series of final rules concerning hunting methods for resident Canada geese (71 FR 45963, August 10, 2006; 72 FR 46403, August 20, 2007; 73 FR 65274, November 3, 2008). As corrected by this document, amendatory instruction 2 and the corresponding text of the regulations now revise only § 20.21(b)(1) and (g)(1). We retain the introductory texts of paragraphs (b) and (g), as well as subparagraphs (b)(2) and (g)(2).

The second error, which appears in amendatory instruction 6, mischaracterizes the contents of subpart E of 50 CFR part 21. As published on November 5, 2008 (73 FR 65926), amendatory instruction 6 states that subpart E of part 21 contains only one section: § 21.60. This statement is incorrect. Subpart E of part 21 actually contains two sections: §§ 21.60 and 21.61. We correct amendatory instruction 6 to reflect this.

All other amendments to the regulations at 50 CFR parts 20 and 21 made in the final rule published in the Federal Register on November 5, 2008 (73 FR 65926), stand.

In rule FR Doc. E8-26171, published on November 5, 2008 (73 FR 65926), make the following corrections.

1. On page 65951, in the second column, revise amendatory instruction 2 (and corresponding amendatory language) to read as follows:

Revise paragraphs (b)(1) and (g)(1) of § 20.21 to read as follows:

§ 20.21 What hunting methods are illegal?

* * * * *

(b) * * *

(1) A light-goose-only season (greater and lesser snow geese and Ross' geese) when all other waterfowl and crane hunting seasons, excluding falconry, are closed.

* * * * *

(g) * * *

(1) A light-goose-only season (greater and lesser snow geese and Ross' geese) when all other waterfowl and crane hunting seasons, excluding falconry, are closed.

* * * * *

2. On page 65951, in the third column, revise amendatory instruction 6 to read as follows:

Revise § 21.60 of subpart E to read as follows:

Dated: November 13, 2008.
Sara Prigan,
Fish and Wildlife Service, Federal Register Liaison.

[FR Doc. E8-27700 Filed 11-21-08; 8:45 am]

BILLING CODE 4310-55-P